DEPARTMENT OF LABOR

Employment and Training Administration

[TA-W-53,515G and TA-W-53,515H]

Thomasville Furniture Industries, Inc., New Plant V, Thomasville, NC; Thomasville Furniture Industries, Inc., Old Plant V, Thomasville, NC; Amended Certifications Regarding Eligibility To Apply for Worker Adjustment Assistance

In accordance with section 223 of the Trade Act of 1974 (19 U.S.C. 2273) the Department of Labor issued a Certification of Eligibility to Apply for Worker Adjustment Assistance on January 13, 2004, applicable to workers of Thomasville Furniture Industries, Inc., Plant V, New Veneer Division, Thomasville, North Carolina (TA-W-53,515G), and Thomasville Furniture Industries, Inc., Plant V, Old Veneer Division, Thomasville, North Carolina (TA-W-53,515H). The notice was published in the Federal Register on February 6, 2004 (69 FR 5867).

At the request of the petitioners, the Department reviewed the certification for workers of the subject facilities. New information shows that the designations “Old Veneer Division” and “New Veneer Division” within Plant V are incorrect. Rather, there is a New Plant V and an Old Plant V. The workers of both facilities are engaged in employment related to the production of veneered furniture faces used in residential wood furniture finished at other domestic Thomasville production facilities.

Based on these findings, the Department is amending the certification to include all workers of Thomasville Furniture Industries, Inc., New Plant V, Thomasville, North Carolina (TA-W-53,515G), and Thomasville Furniture Industries, Inc., Old Plant V, Thomasville, North Carolina (TA-W-53,515H).

The amended notice applicable to TA-W-53,515G and TA-W-53,515H is hereby issued as follows:

All workers of Thomasville Furniture Industries, Inc., New Plant V, Thomasville, North Carolina (TA-W-53,515G), and Thomasville Furniture Industries, Inc., Old Plant V, Thomasville, North Carolina (TA-W-53,515H), who became totally or partially separated from employment on or after November 7, 2002 through January 13, 2006 are eligible to apply for adjustment assistance under section 223 of the Trade Act of 1974.

Signed in Washington, DC, this 17th day of August, 2004.
Richard Church,
Certifying Officer, Division of Trade Adjustment Assistance.

[FR Doc. 04-19412 Filed 8-24-04; 8:45 am]

BILLING CODE 4510-30-P